DEPARTMENT OF HOUSING AND URBAN DEVELOPMENT

[Docket No. FR-5754-N-01]

60-Day Notice of Proposed Information Collection: Section 3 Business Self-Certification Application

AGENCY: Office of the Assistant Secretary for Fair Housing and Equal Opportunity, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 21, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Staci Gilliam, Director, Economic Opportunity Division, 451 7th Street SW., Washington, DC 20410; email Staci.Gilliam@hud.gov or telephone 202-402-3468. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Section 3 Business Self-Certification Application.

OMB Approval Number: 2529-0052.

Type of Request: Extension of currently approved collection.

Form Number: N/A.

Description of the need for the information and proposed use: The information collected from the Section 3 Business Registry Application allows HUD and recipients of covered HUD funding to identify Section 3 Businesses in local communities. The overriding purpose of this information collection is to increase the capacity of recipients of covered HUD assistance (i.e., units of State and local government, Public Housing Authorities, and non-profits), and their developers and contractors, by making it easier to notify Section 3 businesses about local HUD-funded contracting opportunities in fulfillment of the regulatory requirements set forth at 24 CFR Part 135. Information collected from the Section 3 Business Registry Application will be posted in a database of Section 3 Businesses which will be posted on HUD's Web page. Agencies that receive covered HUD funding will be encouraged to use the registry database to notify Section 3 Businesses about the availability of local contracting opportunities.

Respondents: Businesses that are either owned by, or substantially employ, low- or very low-income persons; developers; contractors; Public Housing Agencies; State and local governments; and the general public.

Estimated Number of Respondents: 2,100.

Estimated Number of Responses: 1.

Frequency of Response: 1.

Average Hours per Response: .33 (20 minutes).

Total Estimated Burdens: 699.

B. Solicitation of Public Comment

This notice is soliciting comments from members of the public and affected parties concerning the collection of information described in Section A on the following: (1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Date: August 14, 2014.
David Ziaya,
Deputy Assistant Secretary for Operations and Management, Fair Housing and Equal Opportunity.

[FR Doc. 2014-20034 Filed 8-21-14; 8:45 am]

BILLING CODE 4210-67-P